DEPARTMENT OF JUSTICE

Notice of Lodging of a Consent Decree Pursuant to the Comprehensive Environmental Response, Compensation, and Liability Act

Notice is hereby given that a proposed consent decree in United States v. Drum Service Company of Florida, et al., Civil No. 98-697-Civ-Orl-28C, was lodged on April 13, 2001, with the United States District Court for the Middle District of Florida (“NAPA Decree”). The proposed consent Decree would resolve certain claims under section 107 of the Comprehensive Environmental Response, Compensation, and Liability Act of 1980, 42 U.S.C. 9607, as amended, as well as certain claims under Florida law, brought against NAPA Properties, a Florida general partnership, and its individual partners and distributees (collectively “Settling Defendants”), to recover response costs incurred by the Environmental Protection Agency in connection with the release of hazardous substances at the Zellwood Groundwater Contamination Superfund Site (“Site”) in Zellwood, Orange County, Florida. The United States alleges that NAPA Properties is laible as a person who owns a portion of the Site and as the successor of a person who owned a portion of the Site at the time of the release of a hazardous substance. The United States also alleges that the individual partners of NAPA are liable under Florida law for the obligations of the partnership. Under the proposed Consent Decree, the Settling Defendants will pay $502,813 as well as a portion of the proceeds of certain real property sold by the partnership, to the Hazardous Substances Superfund to reimburse the United States for response costs incurred and to be incurred at the Site.

The Department of Justice will receive, for a period of thirty (30) days from the date of this publication, comments relating to the proposed Consent Decree. Comments should be addressed to the Assistant Attorney General for the Environment and Natural Resources Division, Department of Justice, PO Box 7611, Washington, DC 20530, and should refer to United States v. Drum Service Company of Florida, et al., M.D. FL, Civil No. 98-687-Civ-Orl-28C, DOJ Ref. #90-11-2-266.

The Consent Decree may be examined at the Region 4 Office of the Environmental Protection Agency, 61 Forsyth Street, Atlanta, GA 30303 and the United States Attorney's Office for the Middle District of Florida, Federal building & U.S. Courthouse, 80 N. Hughey Avenue, Orlando, Florida 32801 c/o Assistant U.S. Attorney Roberto Rodriguez. A copy of the proposed consent decree may be obtained by mail from the Consent Decree Library, Post Office Box 7611, Washington, DC 20044. In requesting copies please refer to the referenced case and enclose a check in the amount of $12.00 (25 cents per page reproduction costs), payable to the Consent Decree Library.

Ellen Mahan,
Assistant Section Chief, Environmental Enforcement Section, Environment and Natural Resources Division.

[FR Doc. 01-11122 Filed 5-2-01; 8:45 am]

BILLING CODE 4410-15-M